DEPARTMENT OF THE TREASURY

Internal Revenue Service; Open Meeting of the Taxpayer Advocacy Panel Refund Processing Communications Project Committee

AGENCY: Internal Revenue Service (IRS), Treasury.

ACTION: Notice of meeting.

SUMMARY: An open meeting of the Taxpayer Advocacy Panel Refund Processing Communications Project Committee will be conducted. The Taxpayer Advocacy Panel is soliciting public comments, ideas, and suggestions on improving customer service at the Internal Revenue Service.

DATES: The meeting will be held Thursday May 24 and Friday, May 25, 2012.

FOR FURTHER INFORMATION CONTACT: Ellen Smiley at 1-888-912-1227 or 414-231-2360.

SUPPLEMENTARY INFORMATION: Notice is hereby given pursuant to Section 10(a)(2) of the Federal Advisory Committee Act, 5 U.S.C. App. (1988) that an open meeting of the Taxpayer Advocacy Panel Refund Processing Communications Project Committee will be held Thursday, May 24 from 8 a.m. to 5 p.m. and Friday, May 25 from 8 a.m. to Noon Central Time at 211 West Wisconsin Avenue, Milwaukee, WI 53203-2221. The public is invited to make oral comments or submit written statements for consideration. Notification of intent to participate must be made with Ms. Ellen Smiley. For more information please contact Ms. Smiley at 1-888-912-1227 or 414-231-2360, or write TAP Office Stop 1006MIL, 211 West Wisconsin Avenue, Milwaukee, WI 53203-2221, or post comments to the web site: http://www.improveirs.org.

The agenda will include various IRS issues.

Dated: March 28, 2012.
Louis Morizio,
Acting Director, Taxpayer Advocacy Panel.

[FR Doc. 2012-8412 Filed 4-6-12; 8:45 am]

BILLING CODE 4830-01-P